DEPARTMENT OF DEFENSE

Department of the Navy

Notice of Public Meetings of the Draft Environmental Impact Statement for Basing the U.S. Marine Corps Joint Strike Fighter F-35B on the East Coast

AGENCY: Department of the Navy, DoD.

ACTION: Notice.

SUMMARY: Pursuant to Section (102)(2)(c) of the National Environmental Policy Act (NEPA) of 1969, and regulations implemented by the Council on Environmental Quality (40 Code of Federal Regulations [CFR] Parts 1500-1508), Department of Navy (DoN) NEPA regulations (32 CFR Part 775), and U.S. Marine Corps (USMC) NEPA directives (Marine Corps Order P5090.2A, changes 1 and 2), DoN has prepared and filed with the U.S. Environmental Protection Agency (EPA) a Draft Environmental Impact Statement (DEIS) that evaluates the potential environmental consequences that may result from the basing of the F-35B Joint Strike Fighter (JSF) on the East Coast of the United States.

With the filing of the DEIS, DoN is initiating a 45-day public comment period and has scheduled five public comment meetings to receive oral and written comments on the DEIS. Federal, state, local agencies, and interested parties are encouraged to provide comments in person at any of the public comment meetings, or in writing anytime during the public comment period. This notice announces the date and location of the public meetings and provides supplementary information about the environmental planning effort.

DATES: The DEIS will be distributed to Federal, State, and local agencies, elected officials, and other interested parties on May 28, 2010, initiating the 45-day public comment period which will end on July 12, 2010. Each of the five public meetings will be conducted as an informational open house. Marine Corps and Navy representatives will be available to clarify information related to the DEIS. All five public comment meetings will be held from 4 p.m. to 7 p.m., on the dates and at the locations indicated below:

(1) June 15, 2010, Havelock Tourist and Event Center, 201 Tourist Center Drive, Havelock, NC 28532.

(2) June 16, 2010, Emerald Isle Community Center, 7500 Emerald Drive, Emerald Isle, NC 28594.

(3) June 17, 2010, Fred A. Anderson Elementary School Cafeteria, 507 Anderson Drive, Bayboro, NC 28515.

(4) June 22, 2010, Holiday Inn Conference Convention Center, 2225 Boundary Street, Beaufort, SC 29902.

(5) June 24, 2010, Long County High School, 1 East Academy Street, Ludowici, GA 31316.

Attendees can submit written comments at all public meetings. A stenographer will also be present to transcribe oral comments. Equal weight will be given to both oral and written comments and all comments (either presented orally through transcription and/or written) submitted during the public review period will become part of the public record on the DEIS and will be responded to in the Final EIS. Written comments may be submitted by regular U.S. mail or electronically as described below.

ADDRESSES: A copy of the DEIS is available at the project Web site, http://www.usmcJSFeast.com, and at the local libraries identified at the end of this notice. Comments on the DEIS can be submitted via the project Web site or in writing by submitting to: USMC F-35B East Coast Basing EIS, P.O. Box 56488, Jacksonville, FL 32241-6488. Mailed comments must be postmarked by July 12, 2010, and electronic comments must be submitted on or before July 12, 2010, to be considered in this environmental review process.

FOR FURTHER INFORMATION CONTACT: F-35B EIS Project Manager, Environmental Planning & Conservation Division, Naval Facilities Engineering Command Mid-Atlantic, Code EV21, 9742 Maryland Avenue, Z-144, 1st Floor, Attn: Ms. Linda Blount, Norfolk, VA 23511.

SUPPLEMENTARY INFORMATION: A Notice of Intent for the EIS was published in the Federal Register on January 15, 2009 (Vol. 74, No. 10, pp. 2514-2515).

Proposed Action

The Proposed Action would base and operate a total of 13 squadrons of F-35B aircraft on the East Coast of the United States. The F-35B aircraft is the world's first 5th generation Short Takeoff Vertical Landing (STOVL), stealth, supersonic, multi-role, fighter aircraft that would replace legacy Marine Corps air fleets of F/A-18s and AV-8Bs. Specifically, the proposal would base and operate 11 F-35B operational squadrons (which includes one Reserve squadron) with up to 16 aircraft per squadron and the PTC (composed of two Fleet Replacement Squadrons [FRSs]) with 20 aircraft per squadron. The Proposed Action involves replacing seven operational F/A-18 and four AV-8B (three operational squadrons and one FRS) squadrons of 152 authorized aircraft with up to 216 F-35Bs; establishing a PTC with two F-35B FRSs; conducting flight operations to meet the training and combat readiness requirements; transitioning associated military personnel; and constructing and/or demolishing facilities and infrastructure needed to base and operate both the operational F-35B squadrons and the PTC.

Purpose and Need

The purpose of the Proposed Action is to efficiently and effectively maintain combat capability and mission readiness as the Marine Corps faces increased deployments across a spectrum of conflicts, and a corresponding increased difficulty in maintaining an aging legacy aircraft inventory. The need for the Proposed Action is to replace aging legacy aircraft and integrate the operational and PTC squadrons into the existing Marine Corps command and organizational structure. This action would also ensure that the Marine Corps' aircrews benefit from the aircraft's major technological improvements and enhanced training and readiness requirements.

Alternatives Considered in the DEIS

The DEIS evaluates the potential environmental impacts of four action alternatives and the No Action Alternative.

• Alternative 1 (Preferred) would base three operational squadrons and the PTC at MCAS Beaufort and eight operational squadrons at MCAS Cherry Point.

• Alternative 2 would base the PTC at MCAS Beaufort and eleven operational squadrons at MCAS Cherry Point.

• Alternative 3 would base eight operational squadrons at MCAS Beaufort and three operational squadrons and the PTC at MCAS Cherry Point.

• Alternative 4 would base eleven operational squadrons at MCAS Beaufort and the PTC at MCAS Cherry Point.

• Under the No Action Alternative, the Marine Corps would not provide the facilities or functions to support basing or operating F-35B squadrons at these two Air Stations on the East Coast. There would be no transition of F-35B personnel, construction to support the F-35B, or F-35B operations. Existing F/A-18 and AV-8B squadrons would continue to be used at approximately the current levels. The Marine Corps would continue to repair and operate the existing aircraft at greater expense as the F/A-18 and AV-8B aircraft continue to deteriorate until the end of their useful life.

Environmental resources evaluated for potential impacts in the DEIS include airfields and airspace; noise; air quality; hazardous materials, toxic substances, and hazardous wastes; safety; land use; socioeconomics; environmental justice/protection of children; community services; utilities and infrastructure; transportation and ground traffic; biological resources; geology, topography, and soils; water resources; cultural resources; and coastal zone management. The DEIS also analyzes cumulative impacts from other past, present, and reasonably foreseeable future actions occurring at or near MCAS Beaufort and MCAS Cherry Point.

Environmental consequences of the Proposed Action would principally arise from construction and aircraft operations. Under the preferred alternative (Alternative 1), construction would occur at both Air Stations but would not affect any special status species or cultural resources. The noise environment at the two Air Stations would also change as a result of the preferred alternative. The other three alternatives have similar types and levels of impacts. The DEIS presents an array of construction and minimization measures associated with project design and planning that avoids and minimizes most potential impacts. The USMC will fully comply with regulatory requirements for the protection of environmental resources.

Schedule: The Notice of Availability publication in the Federal Register and local print media starts the 45-day public comment period for the DEIS. The Marine Corps will consider and respond to all written and electronic comments, including email, submitted as described above in preparing the Final EIS. DoN intends to issue the Final EIS in November 2010, at which time a Notice of Availability will be published in the Federal Register and local media. A Record of Decision is expected in December 2010.

Copies of the DEIS are available for public review at the following libraries in North Carolina:

• Havelock-Craven County Public Library, 301 Cunningham Boulevard, Havelock;

• Bogue Banks Public Library, 320 Salter Path Rd., Suite W Pine Knoll Shores;

• Carteret County Public Library, 1702 Live Oak Street, Suite 100, Beaufort;

• Emerald Isle Library, 100 Leisure Lane, Emerald Isle; Western Carteret Public Library, 230 Taylor Notion Road, Cape Carteret;

• Newport Public Library, 210 Howard Boulevard, Newport;

• Pamlico County Library, 603 Main Street, Bayboro;

• New Bern-Craven County Public Library, 400 Johnson Street, New Bern; and

• Onslow County Public Library, 58 Doris Avenue East, Jacksonville.

In South Carolina, copies of the DEIS are available at:

• Beaufort County Library, 311 Scott Street, Beaufort;

• Hilton Head Island Library, 11 Beach City Road, Hilton Head Island;

• Beaufort County Library, 1862 Trask Parkway, Lobeco; and

• Bluffton Community Library, 42 Bamberg Drive, Bluffton.

In Georgia, copies of the DEIS are available at:

• Ida Hilton Public Library, 1105 Wayne Street, Darien;

• Long County Public Library, 28 S Main Street, Ludowici; and

• Brunswick Glynn County Regional Library, 208 Gloucester Street, Brunswick, GA.

Dated: May 20, 2010.
A. M. Vallandingham,
Lieutenant Commander, Judge Advocate General's Corps, U.S. Navy, Federal Register Liaison Officer.

[FR Doc. 2010-12632 Filed 5-25-10; 8:45 am]

BILLING CODE 3810-FF-P